DEPARTMENT OF TRANSPORTATION

Federal Aviation Administration

RTCA Special Committee 165: Minimum Operational Performance Standards for Aeronautical Mobile Satellite Services

AGENCY: Federal Aviation Administration (FAA), DOT.

ACTION: Notice of RTCA Special Committee 165 meeting.

SUMMARY: The FAA is issuing this notice to advise the public of a meeting of RTCA Special Committee 165: Minimum Operational Performance Standards for Aeronautical Mobile Satellite Services.

DATES: The meeting will be held June 5-7, 2001 starting at 9 a.m.

ADDRESSES: The meeting will be held in the RTCA Conference Room, 1140 Connecticut Avenue, NW., Suite 1020, Washington, DC 20036.

FOR FURTHER INFORMATION CONTACT: RTCA Secretariat, 1140 Connecticut Avenue, NW., Washington, DC, 20036; telephone (202) 833-9339; fax (202) 833-9434; web site http://www.rtca.org.

SUPPLEMENTARY INFORMATION: Pursuant to section 10(a)(2) of the Federal Advisory Committee Act (P.L. 92-463, 5 U.S.C., Appendix 2), notice is hereby given for a Special Committee 165 meeting. The agenda will include:

• June 5, 6, 7:

• Opening Session (Welcome and Introductory Remarks, Review/Approve Summary of Previous Meeting, Chairman's Remarks)

• Review of SC-165 Working Group Activities

• Working Group 1 (AMS(R)S Avionics Equipment Minimum Operational Performance Standard (MOPS))

• Working Group 3 (AMS(R)S MASPS)

• Complete Final Review and Comment (FRAC) Process for Minimum Aviation System Performance Standards (MASPS) for the Aeronautical Mobile-Satellite (R) Service (ASM(R)S) as Used in Aeronautical Data Links

• Brief Overview of Related Activities

• AEEC 741 and 761 Characteristics

• ERUOCAE WG-55

• AMS(R)S Spectrum Issues

• ICAO Aeronautical Mobile Communications Panel

• Industry, Users, Government

• Closing Session (Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 9, 2001.
Janice L. Peters,
FAA Special Assistant, RTCA Advisory Committee.

[FR Doc. 01-12234 Filed 5-15-01; 8:45 am]

BILLING CODE 4910-13-M